NUCLEAR REGULATORY COMMISSION

[Docket No. 052-00009]

Notice of Issuance of Early Site Permit (ESP) for Grand Gulf ESP Site Located 25 Miles South of the City of Vicksburg, MS

AGENCY: Nuclear Regulatory Commission.

ACTION: Notice of issuance of Early Site Permit.

FOR FURTHER INFORMATION CONTACT: George F. Wunder, Senior Project Manager, ABWR/ESBWR Projects Branch 1, Division of New Reactor Licensing, Office of New Reactors, U.S. Nuclear Regulatory Commission, Washington, DC 20555-0001. Telephone: (301) 415-1494; Fax number: (301) 415-2102; e-mail: gfw@nrc.gov.

SUPPLEMENTARY INFORMATION:

I. Introduction

Pursuant to 10 CFR 2.106, the Nuclear Regulatory Commission (NRC) is providing notice of the issuance of Early Site Permit (ESP) ESP-002 to System Energy Resources Inc. (SERI, or the permit holder), for approval of a site located near Port Gibson, Mississippi, approximately 25 miles south of the city of Vicksburg, Mississippi, for one or more nuclear power reactors; this action is separate from the filing of an application for a construction permit or combined license for such a facility. The NRC has found that the application for an ESP filed by SERI complies with the applicable requirements of the Atomic Energy Act of 1954, as amended, and the applicable rules and regulations of the Commission, and all required notifications to other agencies or bodies have been duly made. Based on consideration of the site criteria contained in 10 CFR Part 100, a reactor, or reactors, having design characteristics that fall within the site characteristics and controlling parameters of the Grand Gulf ESP Site can be constructed and operated without undue risk to the health and safety of the public. There is reasonable assurance that the permit holder will comply with the regulations in 10 CFR Chapter I, and the health and safety of the public will not be endangered. Issuance of an ESP to the permit holder will not be inimical to the common defense and security or the health and safety of the public.

There is no significant impediment to the development of emergency plans, as referenced in 10 CFR 52.17(b)(1) and 10 CFR 52.18. The descriptions of contacts and arrangements made with Federal, State, and local governmental agencies with emergency planning responsibilities, as referenced in 10 CFR 52.17(b)(3), are acceptable. Major features A, B, C, D, E, F, G, I, J, K, L, O, and P of the emergency plan are acceptable to the extent specified in NUREG-1840, “Safety Evaluation Report for an Early Site Permit (ESP) at the Grand Gulf Site.” The issuance of this ESP is in accordance with the National Environmental Policy Act of 1969, as amended, and with applicable sections of 10 CFR Part 51 as referenced by Subpart A of 10 CFR Part 52, and all applicable requirements therein have been satisfied. The permit holder's request for the proposed permit was previously noticed in the Federal Register on January 16, 2004, (69 FR 2636), with a notice of hearing and opportunity to petition for leave to intervene.

This ESP complies with the standards and requirements of the Atomic Energy Act of 1954, as amended, and NRC's rules and regulations as set forth in 10 CFR Chapter I and the National Environmental Policy Act (NEPA) of 1969. Accordingly, this ESP was issued on April 5, 2007, and is effective immediately.

II. Further Information

The NRC has prepared a Safety Evaluation Report (SER) and Environmental Impact Statement (FEIS), that document the information that was reviewed and NRC's conclusions. In accordance with 10 CFR 2.390 of the NRC's “Rules of Practice,” details with respect to this action, including the SER, FEIS, and accompanying documentation included in the ESP package, are available electronically at the NRC's Electronic Reading Room at http://www.nrc.gov/reading-rm/adams.html. From this site, members of the public can access the NRC's Agencywide Document Access and Management System (ADAMS), which provides text and image files of NRC's public documents. The ADAMS accession numbers for the documents related to this notice are:

ML070780457 | Issuance of Early Site Permit for System Energy Resources, Inc.—Grand Gulf Site (ESP-002).
ML061070443 | NUREG-1840—“Safety Evaluation Report for an Early Site Permit (ESP) at Grand Gulf Site”.
ML060900037 | NUREG-1817—“Environmental Impact Statement for an Early Site Permit (ESP) at the Grand Gulf ESP Site” Final Report.
ML032960291 | Grand Gulf Early Site Permit Application, Part 1, Cover and Table of Contents.

Persons who do not have access to ADAMS or who encounter problems in accessing the documents located in ADAMS should contact the NRC Public Document Room (PDR) Reference staff at 1-800-397-4209, 301-415-4737, or by e-mail to pdr@nrc.gov.

These documents may also be viewed electronically on the public computers located at the NRC's Public Document Room (PDR), O 1 F21, One White Flint North, 11555 Rockville Pike, Rockville, Maryland 20852. The PDR reproduction contractor will copy documents for a fee.

Dated at Rockville, Maryland, this 9th day of April, 2007.
For the Nuclear Regulatory Commission.
Mohammed Shuaibi,
Chief, ESBWR/ABWR Projects Branch 1, Division of New Reactor Licensing, Office of New Reactors.

[FR Doc. E7-7261 Filed 4-16-07; 8:45 am]

BILLING CODE 7590-01-P